DEPARTMENT OF COMMERCE

National Oceanic and Atmospheric Administration

50 CFR Part 600

[I.D. 080502B]

Magnuson-Stevens Act Provisions; General Provisions for Domestic Fisheries; Application for Exempted Fishing Permits (EFPs)

AGENCY: National Marine Fisheries Service (NOAA Fisheries), National Oceanic and Atmospheric Administration (NOAA), Commerce.

ACTION: Notification of a proposal for EFPs to conduct experimental fishing; request for comments.

SUMMARY: The Administrator, Northeast Region, NOAA Fisheries (Regional Administrator) has made a preliminary determination that the subject EFP application contains all the required information and warrants further consideration. The Regional Administrator has also made a preliminary determination that the activities authorized under the EFP would be consistent with the goals and objectives of the Northeast Multispecies Fishery Management Plan (FMP). However, further review and consultation may be necessary before a final determination is made to issue the EFP. Therefore, NOAA Fisheries announces that the Regional Administrator proposes to issue an EFP that would allow one vessel to conduct fishing operations that are otherwise restricted by the regulations governing the fisheries of the Northeastern United States. The EFP would allow for a 20-day exemption from the Gulf of Maine (GOM) Rolling Closures specified at 50 CFR 648.81 and for a 20-day exemption from the northeast (NE) multispecies days-at-sea (DAS) notification requirements at 50 CFR 648.10(c) and 648.82(a). The exempted fishing activity would support research to design, develop and test a soft species separation system for commercial flatfish trawls in the GOM. The system is intended to separate roundfish (particularly cod) from flatfish in trawl nets by exploiting behavioral differences between the species.

Regulations under the Magnuson-Stevens Fishery Conservation and Management Act require publication of this notification to provide interested parties the opportunity to comment on applications for proposed EFPs.

DATES: Comments on this document must be received on or before August 29, 2002.

ADDRESSES: Written comments should be sent to Patricia A. Kurkul, Regional Administrator, NMFS, Northeast Regional Office, 1 Blackburn Drive, Gloucester, MA 01930. Mark the outside of the envelope “Comments on UNH Species Separation System EFP Proposal.” Comments may also be sent via facsimile (fax) to (978) 281-9135.

FOR FURTHER INFORMATION CONTACT: Richard A. Pearson, Fishery Policy Analyst, 978-281-9279.

SUPPLEMENTARY INFORMATION: The application for an EFP was submitted by the University of New Hampshire (UNH) Cooperative Extension for research being funded through NOAA Fisheries' Cooperative Research Partners Program. The applicant is requesting an exemption for one commercial vessel from the NE multispecies DAS notification requirements at 50 CFR 648.10(c) and 648.82(a) for 20 days of at-sea gear testing and from the GOM Rolling Closures specified at 50 CFR 648.81 for the same duration. This experiment proposes to design, develop and test a soft species separation system for commercial flatfish trawls in the GOM. The objective of the research is to separate flatfish from roundfish in trawl nets and to reduce the inadvertent bycatch of roundfish (particularly cod) when fishing for flatfish. The separation device is designed to separate roundfish from flatfish by exploiting behavioral differences that exist between the species. The experimental design consists of a soft species separation panel, or ramp, that would be positioned in front of a double codend in a trawl net. It would take advantage of the tendency of flatfish to swim towards the ocean bottom after encountering the separation panel and thereby into the lower codend portion of the net. Roundfish, which are not expected to swim towards the seafloor after encountering the panel, would swim into the upper codend portion of the net, which could be left open if roundfish were not being retained.

Underwater video equipment would be employed to observe fish behavior and functioning of the experimental selectivity device. Catch and bycatch are proposed to be sampled from each tow. If available, 100 each of cod, haddock, yellowtail flounder, whiting (silver hake), American plaice and witch flounder (including both legal and sub-legal sizes) would be measured from the catch in both the control net (commercial trawl net) and from the experimental trawl net, using alternating tows. The total weight of roundfish and flatfish would be determined from the upper and lower codends of the experimental trawl net and from the control net. Finally, the catch of each species in the upper and lower codend of the experimental net would be analyzed using statistical methods to calculate a separation index to determine whether the experimental system is effective at separating the species.

To avoid the Cape Cod yellowtail flounder stock area, the vessel would be required to conduct experimental fishing activity north of 42°50' N. lat. (the northern boundary of the Cape Cod yellowtail flounder stock area), due to the significant reduction in fishing mortality that is currently required for that stock to eliminate overfishing. The sea trials would be conducted in shallow water (30 to 50 fathoms (54.9 - 91.4 meters)) off the coasts of New Hampshire, southern Maine, and a small portion of northern Massachusetts. UNH researchers would be aboard the vessel during all experimental work. All undersized fish, and/or protected species, would be returned to the sea as quickly as possible after measurement. However, legal-sized fish that would otherwise have to be discarded would be allowed to be retained and sold. The overall catch levels are not expected to have a detrimental impact on the NE multispecies resource. Estimated total landings for the 20 days are: Cod - 6,000 lb (2721.5 kg); flatfish (witch flounder, American plaice, winter flounder, yellowtail flounder) - 6,000 lb (2721.5 kg); other groundfish (haddock, cusk, white hake, silver hake, red hake, ocean pout, wolffish, etc.) - 4,000 lb (1814.4 kg). This is approximately one-half the level of landings that would be expected for 20 days of normal commercial fishing for this vessel. The participating vessel would be required to report all of its landings in its Vessel Trip Reports.

This experimental work is important because it could lead to the development of gear that could reduce bycatch of species that are subject to restrictive trip limits, such as cod, when fishing for species that are not subject to restrictive trip limits. The successful development of a soft species separation device, which could easily be installed in commercial trawl nets, could provide the fishing industry with more flexibility in conducting fishing activities, while simultaneously providing additional conservation for overfished species.

Based on the results of this EFP, this action may lead to future rulemaking.

Authority: 16 U.S.C. 1801 et seq.

Dated: August 9, 2002.
Virginia M. Fay,
Acting Director, Office of Sustainable Fisheries, National Marine Fisheries Service.

[FR Doc. 02-20657 Filed 8-13-02; 8:45 am]

BILLING CODE 3510-22-S